DEPARTMENT OF TRANSPORTATION

Federal Aviation Administration

14 CFR Part 97

[Docket No. 30549 Amdt. No. 3217]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 16, 2007. The compliance date for each SIAP and/or Weather Takeoff Minimums is specified in the amendatory provisions.

The incorporation by reference of certain publications listed in the regulations is approved by the Director of the Federal Register as of May 16, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 4, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 7 JUN 2007

Los Angeles, CA, Los Angeles Intl, ILS OR LOC RWY 25L; ILS RWY 25L (CAT II); ILS RWY 25L (CAT III), Amdt 10A

Effective 5 JUL 2007

Buckland, AK, Buckland, RNAV (GPS) RWY 11, Amdt 1

Buckland, AK, Buckland, RNAV (GPS) RWY 29, Orig

Buckland, AK, Buckland, NDB/DME RWY 11, Amdt 1

Buckland, AK, Buckland, NDB/DME RWY 29, Amdt 1

Buckland, AK, Buckland, Takeoff Minimums and Obstacle DP, Amdt 1

Emmonak, AK, Emmonak, RNAV (GPS) RWY 16, Amdt 2

Emmonak, AK, Emmonak, RNAV (GPS) RWY 34, Amdt 2

Homer, AK, Homer, RNAV (GPS) Y RWY 3, Orig

Homer, AK, Homer, RNAV (GPS) Y RWY 21, Orig

Homer, AK, Homer, RNAV (GPS) Z RWY 3, Orig

Homer, AK, Homer, RNAV (GPS) Z RWY 21, Orig

Homer, AK, Homer, GPS RWY 3, Orig-B, CANCELLED

Homer, AK, Homer, GPS RWY 21, Orig-B, CANCELLED

Noatak, AK, Noatak, NDB/DME RWY 1, Amdt 2

Noatak, AK, Noatak, Takeoff Minimums and Obstacle DP, Amdt 1

Pago Pago, AS, Pago Pago Intl, Takeoff Minimums and Textual DP, Amdt 4

Ash Flat, AR, Sharp County Regional, RNAV (GPS) RWY 4, Orig

Ash Flat, AR, Sharp County Regional, RNAV (GPS) RWY 22, Orig

Ash Flat, AR, Sharp County Regional, GPS RWY 4, Orig-B, CANCELLED

Ash Flat, AR, Sharp County Regional, Takeoff Minimums and Obstacle DP, Orig

Phoenix, AZ, Phoenix Sky Harbor Intl, RNAV (GPS) RWY 25L, Orig-B

Phoenix, AZ, Phoenix Sky Harbor Intl, RNAV (GPS) RWY 25R, Amdt 1A

Jacksonville, FL, Cecil Field, ILS OR LOC RWY 36R, Amdt 1

Jacksonville, FL, Cecil Field, Takeoff Minimums and Obstacle DP, Orig

Cartersville, GA, Cartersville, RNAV (GPS) RWY 1, Amdt 1

Lawrenceville, GA, Gwinnett County-Briscoe Field, RNAV (GPS)-A, Orig

Lawrenceville, GA, Gwinnett County-Briscoe Field, GPS-A, Orig-A, CANCELLED

Boise, ID, Boise Air Terminal/Gowen Fld, RNAV (GPS) RWY 10L, Amdt 2

Boise, ID, Boise Air Terminal/Gowen Fld, RNAV (GPS) RWY 10R, Amdt 1

Boise, ID, Boise Air Terminal/Gowen Fld, RNAV (GPS) RWY 28L, Amdt 3

Boise, ID, Boise Air Terminal/Gowen Fld, RNAV (GPS) RWY 28R, Amdt 2

Boise, ID, Boise Air Terminal/Gowen Fld, LOC BC RWY 28L, Amdt 1

Boise, ID, Boise Air Terminal/Gowen Fld, NDB RWY 10R, Amdt 28

Chicago, IL, Lansing Muni, RNAV (GPS) RWY 9, Orig

Chicago, IL, Lansing Muni, RNAV (GPS) RWY 27, Orig

Chicago, IL, Lansing Muni, GPS RWY 27, Orig-A, CANCELLED

Chicago, IL, Lansing Muni, VOR-A, Amdt 6

Chicago, IL, Chicago-O'Hare Intl, ILS OR LOC RWY 10, Amdt 15

Chicago, IL, Chicago-O'Hare Intl, ILS OR LOC RWY 14R, ILS RWY 14R (CAT II); ILS RWY 14R (CAT III), Amdt 30

Chicago, IL, Chicago-O'Hare Intl, ILS OR LOC RWY 28, ILS RWY 28 (CAT II); ILS RWY 28 (CAT III), Amdt 14

Chicago, IL, Chicago-O'Hare Intl, ILS OR LOC RWY 32L, Amdt 2

Chicago, IL, Chicago-O'Hare Intl, RNAV (GPS) RWY 10, Amdt 2

Chicago, IL, Chicago-O'Hare Intl, RNAV (GPS) RWY 14R, Amdt 1

Chicago, IL, Chicago-O'Hare Intl, RNAV (GPS) RWY 28, Amdt 1

Chicago, IL, Chicago-O'Hare Intl, RNAV (GPS) Y RWY 27L, Orig, CANCELLED

Hugoton, KS, Hugoton Muni, RNAV (GPS) RWY 2, Orig

Hugoton, KS, Hugoton Muni, RNAV (GPS) RWY 20, Orig

Hugoton, KS, Hugoton Muni, NDB RWY 2, Amdt 3

Hugoton, KS, Hugoton Muni, Takeoff Minimums and Obstacle DP, Amdt 1

Middlesboro, KY, Middlesboro-Bell County, RNAV (GPS)-A, Orig

Waterville, ME, Waterville Robert LaFleur, RNAV (GPS) RWY 23, Orig

Plymouth, MA, Plymouth Muni, RNAV (GPS) RWY 6, Orig

Plymouth, MA, Plymouth Muni, GPS RWY 6, Amdt 2B, CANCELLED

Brainerd, MN, Brainerd Lakes Rgnl, RNAV (GPS) RWY 12, Orig

Brainerd, MN, Brainerd Lakes Rgnl, RNAV (GPS) RWY 23, Orig

Brainerd, MN, Brainerd Lakes Rgnl, RNAV (GPS) RWY 30, Orig

Brainerd, MN, Brainerd Lakes Rgnl, ILS OR LOC RWY 23, Amdt 7

Brainerd, MN, Brainerd Lakes Rgnl, NDB RWY 23, Amdt 6

Canby, MN, Myers Field, RNAV (GPS) RWY 12, Orig

Canby, MN, Myers Field, RNAV (GPS) RWY 30, Orig

Canby, MN, Myers Field, Takeoff Minimums and Obstacle DP, Orig

Kirksville, MO, Kirksville Rgnl, ILS OR LOC/DME RWY 36, Orig

Kirksville, MO, Kirksville Rgnl, RNAV (GPS) RWY 18, Amdt 1

Kirksville, MO, Kirksville Rgnl, RNAV (GPS) RWY 36, Amdt 1

Kirksville, MO, Kirksville Rgnl, LOC/DME RWY 36, Amdt 6B, CANCELLED

Kirksville, MO, Kirksville Rgnl, Takeoff Minimums and Textual DP, Orig

Greenville, MS, Mid Delta Regional, VOR/DME RWY 18R, Orig

Greenville, MS, Mid Delta Regional, VOR/DME RWY 18L, Amdt 13

Greenville, MS, Mid Delta Regional, VOR RWY 18R, Amdt 5A, CANCELLED

Starkville, MS, George M. Bryan, NDB-C, Amdt 3

Starkville, MS, George M. Bryan, Takeoff Minimums and Obstacle DP, Orig

Vicksburg, MS, Vicksburg Muni, RNAV (GPS) RWY 1, Orig

Vicksburg, MS, Vicksburg Muni, NDB RWY 1, Amdt 2

Vicksburg, MS, Vicksburg Muni, Takeoff Minimums and Obstacle DP, Amdt 2

West Point, MS, McCharen Field, Takeoff Minimums and Obstacle DP, Amdt 1

Millville, NJ, Millville Muni, VOR-A, Amdt 1

Wilmington, OH, Clinton Field, RNAV (GPS) RWY 3, Orig

Wilmington, OH, Clinton Field, RNAV (GPS) RWY 21, Orig

Wilmington, OH, Clinton Field, GPS RWY 21, Orig, CANCELLED

Wilmington, OH, Clinton Field, VOR-A, Amdt 2

Wilmington, OH, Clinton Field, Takeoff Minimums and Obstacle DP, Amdt 2

Madras, OR, City-County, RNAV (GPS)-A, Orig

Madras, OR, City-County, Takeoff Minimums and Textual DP, Orig

St. Marys, PA, St. Marys Muni, LOC/DME RWY 28, Amdt 4

Jacksboro, TN, Campbell County, RNAV (GPS) RWY 23, Orig

Jacksboro, TN, Campbell County, GPS RWY 23, Orig-A, CANCELLED

Beeville, TX, Beeville Muni, RNAV (GPS) RWY 12, Orig

Beeville, TX, Beeville Muni, RNAV (GPS) RWY 30, Orig

Beeville, TX, Beeville Muni, NDB OR GPS RWY 30, Amdt 2A, CANCELLED

Beeville, TX, Beeville Muni, VOR/DME RWY 12, Amdt 6

Beeville, TX, Beeville Muni, Takeoff Minimums and Obstacle DP, Orig

Bryan, TX, Coulter Field, RNAV (GPS) RWY 15, Orig

Bryan, TX, Coulter Field, RNAV (GPS) RWY 33, Orig

Bryan, TX, Coulter Field, VOR/DME-A, Amdt 3

Bryan, TX, Coulter Field, Takeoff Minimums and Obstacle DP, Orig

Coleman, TX, Coleman Muni, NDB RWY 15, Amdt 2, CANCELLED

Houston, TX, George Bush Intercontinental/Houston, ILS OR LOC RWY 33R, Amdt 12

Houston, TX, George Bush Intercontinental/Houston, RNAV (GPS) RWY 33R, Amdt 1

Longview, TX, East Texas Regional, RNAV (GPS) RWY 13, Orig

Longview, TX, East Texas Regional, RNAV (GPS) RWY 17, Orig

Longview, TX, East Texas Regional, RNAV (GPS) RWY 31, Orig

Longview, TX, East Texas Regional, RNAV (GPS) RWY 35, Orig

Longview, TX, East Texas Regional, Takeoff Minimums and Obstacle DP, Orig

Effective 2 AUG 2007

Marshfield, MA, Marshfield Muni-George Harlow Field, Takeoff Minimums and Obstacle DP, Orig

Indian Head, MD, Maryland, Takeoff Minimums and Obstacle DP, Amdt 1

Manchester, NH, Manchester, Takeoff Minimums and Obstacle DP, Amdt 6

Effective 30 AUG 2007

Tok, AK, Tok Junction, RNAV (GPS) RWY 7, Orig-A

Tok, AK, Tok Junction, RNAV (GPS)-A, Orig-A

Chicago, IL, Chicago-O'Hare Intl, VOR RWY 22R, Amdt 9, CANCELLED

French Lick, IN, French Lick Muni, NDB RWY 8, Orig-A, CANCELLED

[FR Doc. E7-9242 Filed 5-15-07; 8:45 am]

BILLING CODE 4910-13-P